DEPARTMENT OF ENERGY

Federal Energy Regulatory Commission

[Docket No. ES02-17-001]

Pacific Gas & Electric Company and PG&E Corporation on Behalf of Its Subsidiaries ETrans LLC and Electric Generation LLC; Notice of Application

January 8, 2002.

Take notice that on December 21, Pacific Gas and Electric (PG&E) and PG&E Corporation, on behalf of its subsidiaries, ETrans LLC and Electric Generation LLC, submitted an amendment to its original application in this proceeding, under section 204 of the Federal Power Act. The amendment replaces PG&E's Statement of Cash Flows which contained an error.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before January 29, 2002. Protests will be considered by the Commission to determine the appropriate action to be taken, but will not serve to make protestants parties to the proceedings. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

C. B. Spencer,
Acting Secretary.

[FR Doc. 02-818 Filed 1-11-02; 8:45 am]

BILLING CODE 6717-01-P